DEPARTMENT OF VETERANS AFFAIRS

Advisory Committee on Cemeteries and Memorials, Notice of Meeting, Amended

The Department of Veterans Affairs (VA) gives notice under the Federal Advisory Committee Act that a virtual meeting of the Advisory Committee on Cemeteries and Memorials will be held on October 21, 2020-October 22, 2020. The meeting sessions will be held as follows:

Date | Time
Wednesday, October 21, 2020 | 1:00 p.m. to 5:00 p.m. EDT.
Thursday, October 22, 2020 | 1:00 p.m. to 5:00 p.m. EDT.

The meeting sessions are open to the public. If you are interested in attending the meeting virtually, the dial-in number for both days is 1-404-397-1596, Access Code: 1998939772#.

The purpose of the Committee is to advise the Secretary of Veterans Affairs on the administration of national cemeteries, soldiers' lots and plots, the selection of new national cemetery sites, the erection of appropriate memorials, and the adequacy of Federal burial benefits. The Committee will make recommendations to the Secretary regarding such activities.

On Wednesday, October 21, 2020, the agenda will include remarks by VA Leadership; appointment of new member, Mr. Donn Weaver; report on the Missing in America Program; discussion on COVID 19: Restrictions, lessons learned, and its impact on families; update on the Veterans Legacy Program, Veterans Legacy Memorial, Outreach, Cemetery Dedications, Social Media, and other initiatives to inform the public about benefits and to memorialize Veterans; public comments; and open discussion.

On Thursday, October 22, 2020, the agenda will include a remarks and recap from committee chair; update on the Transfer of the Eleven Army Cemeteries and the Veterans Cemetery Grants Program; update on the Rural and Urban burial Initiative; report on the Hardest Five Percent of Veterans Requiring Access to Burial Options; public comments; and open discussion.

Any member of the public wishing to attend the meeting should contact Ms. Christine Hamilton, Designated Federal Officer, at (202) 461-5681. Please leave a voice message. The Committee will also accept written comments. Comments may be transmitted electronically to the Committee at christine.hamilton1@va.gov. In the public's communications with the Committee, the writers must identify themselves and state the organizations, associations, or persons they represent.

Dated: October 13, 2020.
Jelessa M. Burney,
Federal Advisory Committee Management Officer.

[FR Doc. 2020-22952 Filed 10-15-20; 8:45 am]

BILLING CODE P